DEPARTMENT OF COMMERCE

National Oceanic and Atmospheric Administration

50 CFR Part 679

[Docket No. 020814193-2282-02; I.D. 070102C]

RIN 0648-AQ05

Fisheries of the Exclusive Economic Zone Off Alaska; Extend the Interim Groundfish Observer Program Through December 31, 2007, and Amend Regulations for the North Pacific Groundfish Observer Program; Correction

AGENCY: National Marine Fisheries Service (NMFS), National Oceanic and Atmospheric Administration (NOAA), Commerce.

ACTION: Final rule; correction.

SUMMARY: This document corrects the final rule that was published in the Federal Register on December 6, 2002, which extended the applicability date of the existing regulations for the interim North Pacific Groundfish Observer Program.

DATES: Effective January 1, 2003.

FOR FURTHER INFORMATION CONTACT: Patsy A. Bearden, 907-586-7008.

SUPPLEMENTARY INFORMATION:

Need for Correction

An incorrect paragraph designation was published under the DATES heading of the final rule, FR Doc. 02-30694, in the issue of December 6, 2002 (67 FR 72595). It is corrected as follows:

On page 72595, column 2, line 1 “679.79(a)(3)” is corrected to read “679.7(a)(3)”.

Dated: January 6, 2003.
Rebecca Lent,
Deputy Assistant Administrator for Regulatory Programs, National Marine Fisheries Service.

[FR Doc. 03-521 Filed 1-9-03; 8:45 am]

BILLING CODE 3510-22-S